DEPARTMENT OF HEALTH AND HUMAN SERVICES

Issuance of Final Policy Directive

AGENCY: Administration for Children and Families.

ACTION: Notice.

SUMMARY: The Administration for Native Americans (ANA) is issuing final interpretive rules, general statements of policy and rules of agency organization, procedure, or practice relating to the following Funding Opportunity Announcements (FOAs): Social and Economic Development Strategies (hereinafter referred to as SEDS), Social and Economic Development Strategies—Special Initiative (hereinafter referred to as SEDS—SI), Native Language Preservation and Maintenance (hereinafter referred to as Language Preservation), Native Language Preservation and Maintenance—Esther Martinez Initiative (hereinafter referred to as Language—EMI), and Environmental Regulatory Enhancement (hereinafter referred to as ERE). This notice also provides information about how ANA will administer these programs.

FOR FURTHER INFORMATION CONTACT: Caroline Gary, Deputy Commissioner, (877) 922-9262, 370 L'Enfant Promenade, SW., 2nd Floor West, Washington, DC 20447.

SUPPLEMENTARY INFORMATION:

I. Background

Section 814 of the Native American Programs Act of 1974, as amended, requires ANA to provide members of the public an opportunity to comment on proposed changes in interpretive rules, general statements of policy and rules of agency organization, procedure, or practice and to give notice of the final adoption of such changes at least 30 days before the changes become effective.

ANA published a Notice of Public Comment (NOPC) in the Federal Register (74 FR 68849) on December 29, 2009, with proposed policy and program clarifications, modifications, and activities for the fiscal year (FY) 2010 FOAs. The public comment period was open for 30 days.

ANA received 12 comments from eight different entities: (1) Three from a Federally recognized Tribe; (2) one from an Alaska Native Village Corporation; (3) one from a Tribally controlled college; (4) one from a Hawaiian non-profit organization; (5) two from a Hawaiian University; (6) one from an individual language educator; (7) one from an Alaskan non-profit organization; and (8) two from a national non-profit for Native languages. ANA considered all of the comments received and provided responses, clarifications, and modifications in this final directive. The following paragraphs summarize the comments and our responses. The comments are grouped by the portion of the NOPC to which they apply.

II. Comments and Responses

A. Comments on SEDS and SEDS—SI FOAs

Comments: ANA received three comments in reference to the SEDS—SI FOA and the former SEDS—Alaska program announcement. One commenter said that the description of the SEDS—SI funding opportunity was insufficient to determine whether the commenter's Tribe would be eligible to apply under this new FOA. A second commenter stated that the discontinuation of SEDS—Alaska will have a detrimental impact on Alaska Native communities, and a third stated the same concerns and encouraged ANA to consider keeping that program area with an increased ceiling amount.

Responses: In response to the first comment about SEDS—SI, ANA provided this clarification: The forthcoming SEDS—SI FOA will address the same program areas of interest as SEDS and have the same eligibility criteria; the only difference between SEDS and SEDS—SI will be the funding floor and ceiling amounts.

In response to the second and third comments, ANA offered no changes. ANA acknowledges that there are many Tribes and organizations with limited capacity throughout all of the United States and its Territories. The SEDS—Alaska initiative was established in 1984 and for more than 20 years assisted Alaska Native Villages and Alaskan organizations with capacity-building projects and activities. ANA has limited funding available with which to impact its target communities, and ANA is continuously seeking ways to best address the needs of all communities. To ensure that competition for funds is equitable, ANA must ensure an even regional distribution of funds.

B. Comments on Language Preservation and Language—EMI FOAs

Comments: ANA received three comments on the Native Language programs. One commenter expressed concern about the lack of emphasis on teacher training for the language nests in the Language—EMI FOA. One commenter said that the separation of Esther Martinez Native American Languages Preservation Act of 2006 (Esther Martinez Act) programs from other language programs will ensure that the Congressional appropriations allocated to programs identified in the Esther Martinez Act will be honored. Specifically, the commenter stated that $12 million was appropriated for the Esther Martinez Act programs with $4 million of that set aside for immersion programs. One commenter suggested that an absolute priority should be identified for language immersion schools to align with the Congressional appropriation.

Responses: In response to the first comment, ANA agrees in part. Teacher training is undoubtedly a critical component to language programs, and to address this both Native Language FOAs provide opportunities for teacher training for all types of schools and programs dedicated to preserving and maintaining Native languages. The purpose of Language—EMI is to award funds to language survival schools, language nests, and language restoration programs; however, the type of project, which could include teacher training, is open to what the applicant determines is most beneficial to the program, as long as it fulfills the three-year time requirement. For shorter term teacher training projects, applicants can apply for projects to include teacher training under the Language Preservation FOA.

The second and third comments directly relate to the Esther Martinez Act and ANA's FY 2010 appropriation. With respect to these comments, ANA agrees in part and offers clarification but no change. The appropriation language for the FY 2010 ANA budget does not specify that the entire $12 million for language programs should be allocated to Esther Martinez Act programs. Instead, the House and Senate Conference Report 111-366 to accompany P.L. 111-117 (page 1040) included the following statements:

Within the amount provided for Native American programs, the conference agreement includes $12,000,000 for Native American language preservation activities including no less than $4,000,000 for language immersion programs as proposed in Senate Report 111-66. The House included similar language.

The FY 2010 appropriation and the instructions for Native language programs do not specify what funds should be allocated to the specific programs under the Esther Martinez Act. Rather, the recommendation is that $12 million be spent on all language programs with $4 million of that used to fund immersion programs. Immersion activities can be funded under the Language Preservation FOA or the Language—EMI FOA. The FY 2010 appropriation is not only for new awards, but also for projects that are continuing into a second or a third year. ANA has determined that suitable tracking will be completed to ensure funds are spent as appropriated by Congress.

In FY 2010, ANA identified the Language—EMI FOA as separate from the Language Preservation FOA to address the specific differences in time frames and eligibility requirements, as outlined in the Esther Martinez Act. The Esther Martinez Act program areas fund three-year projects in one of the following three categories:

Language Nest Projects: providing instruction and child care through the use of a Native American language and ensuring a Native American language is the dominant medium of instruction.

Language Survival School Projects: working toward a goal of all students achieving fluency in a Native American language and academic proficiency.

Language Restoration Programs: providing instruction in at least one Native American language and working towards the goal of increasing proficiency and fluency in that language.

C. Comment on Award Information

Comment: ANA received one comment suggesting that ANA elevate the funding range for language nest and survival schools from $100,000-$300,000 to $150,000-$500,000, which have limited funds for teacher training, curriculum development, repository building, and other activities.

Response: In response to this comment, ANA offers no change to the funding floor and ceiling for language nests and survival schools. In FY 2010, ANA increased the funding ceilings from $200,000 per budget period for implementation grants and $250,000 per budget period for immersion grants in FY 2009 to $300,000 per budget period for all language projects in FY 2010. Further increases in the funding ceiling will restrict ANA's ability to support many deserving programs. If ANA increases the funding floor and ceiling, fewer projects will be funded. For example, if ANA has $2 million for new projects in FY 2010, only four projects at $500,000 each could be funded versus more than six projects with a $300,000 ceiling.

D. Comment on Disqualification Factors

Comment: ANA received one comment requesting that ANA identify Tribally controlled colleges as separate entities from the associated Tribes.

Response: In response to this comment, ANA offers no change. In accordance with 45 CFR 1336.33, “applications from tribal components which are tribally-authorized divisions of a larger tribe must be approved by the governing body of the Tribe,” thereby recognizing them as one entity.

E. Comment on Definitions

Comment: One commenter stated that the Language—EMI FOA should include definitions for “language survival schools” and “language nests” in addition to “language restoration programs.”

Response: ANA offers no change in response to this comment. The NOPC identified only changes from 2009 to 2010. Definitions for both “language survival schools” and “language nests” were included in the FY 2009 program announcements; therefore, the definitions were not included as new definitions in the NOPC. All three definitions will be included in the FY 2010 Language—EMI FOA.

F. Comment on Application Evaluation Criteria

Comment: One commenter stated that tracking an impact indicator for three years after the end of the project period is difficult because there would be no grant funding to support these data collection efforts.

Response: ANA agrees in part and offers clarification but no change. The best use of ANA resources is to fund projects that are sustainable and have the potential to impact and provide benefits to the community beyond the project period. In addition, applicants should propose projects that have a clearly identified goal of what the project will achieve and how the proposed project will impact the community well into the future. Therefore, ANA is requesting that a target be set for three years after the project period; however, ANA is not requiring that data be collected or reported for the period after the project ends. It will be the grantee's decision whether to track the third indicator after the end of the project period.

G. Other Comments

Comments: One commenter suggested that a Tribe should be able to have a Family Preservation grant concurrent with a SEDS grant and another commenter stated that the proposed changes will improve the ANA program and its effectiveness in the target communities.

Responses: The first comment was not addressed by any changes identified in the NOPC; therefore, ANA declines to respond to the comment. ANA agrees with the second comment. ANA's program mission is to promote self-sufficiency and cultural preservation for Native Americans by providing social and economic development opportunities through financial assistance, training, and technical assistance to eligible Tribes and Native American communities, including American Indian, Alaska Native, Native Hawaiian, and other Native Pacific Islander organizations. ANA recognizes that to better address its mission, a simplified funding structure that reaches more of ANA's target communities is needed. The changes to the FY 2010 FOAs were developed to that end.

The 2010 FOAs will be published on the ANA Web site at http://www.acf.hhs.gov/programs/ana//programs/program_announcements.html and at http://www.grants.gov.

Dated: March 2, 2010.
Caroline Gary,
Deputy Commissioner, Administration for Native Americans.

[FR Doc. 2010-4843 Filed 3-9-10; 8:45 am]

BILLING CODE 4184-01-P